INTERNATIONAL TRADE COMMISSION

[Investigation No. 337-TA-771]

In the Matter of Certain Electronic Devices, Including Mobile Phones, Mobile Tablets, Portable Music Players, and Computers, and Components Thereof; Notice of Commission Decision Not To Review an Initial Determination Terminating the Investigation on the Basis of a Settlement Agreement

AGENCY: U.S. International Trade Commission.

ACTION: Notice.

SUMMARY: Notice is hereby given that the U.S. International Trade Commission has determined not to review the presiding administrative law judge's (“ALJ”) initial determination (“ID”) (Order No. 8) granting a joint motion to terminate the investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 29, 2011, based on a complaint filed by Nokia Corporation of Finland; Nokia Inc. of White Plains, New York; and Intellisync Corporation of White Plains, New York (collectively “Nokia”), alleging a violation of section 337 of the Tariff Act of 1930, as amended, 19 U.S.C. 1337, in the importation, sale for importation and sale within the United States after importation of certain mobile phones, mobile tablets, portable music players, and computers. 76 FR 24051 (Apr. 29, 2011). The complaint named as the respondent Apple Inc. of Cupertino, California (“Apple”). The complaint alleges that certain Apple products infringe various claims of seven patents: U.S. Patent Nos. 7,209,911; 6,212,529; 6,141,664; 7,558,696; 6,445,932; 5,898,740; and 7,319,874.

On June 16, 2011, Nokia and Apple filed their Joint Motion to Terminate Investigation No. 337-TA-771 on the Basis of Settlement Agreement. On June 17, 2011, the Commission investigative attorney filed a response that recommended that the Commission grant the motion. That same day, the ALJ granted the motion as an ID (Order No. 8).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: July 8, 2011.
James R. Holbein,
Secretary to the Commission.

[FR Doc. 2011-17677 Filed 7-13-11; 8:45 am]

BILLING CODE 7020-02-P